DEPARTMENT OF HOMELAND SECURITY

Coast Guard

33 CFR Part 117

[CGD01-06-013]

Drawbridge Operation Regulations: Oceanport Creek, Oceanport, NJ

AGENCY: Coast Guard, DHS.

ACTION: Notice of temporary deviation from regulations.

SUMMARY: The Commander, First Coast Guard District, has issued a temporary deviation from the regulation governing the operation of the New Jersey Transit Rail Operations (NJTRO) Bridge across Oceanport Creek at mile 8.4, at Oceanport, New Jersey. This temporary deviation allows the NJTRO Bridge to remain in the closed position for two weekends from 6 a.m. on Saturday through 6 p.m. on Sunday. This deviation is necessary in order to facilitate scheduled bridge maintenance.

DATES: This deviation is effective from March 25, 2006 through April 23, 2006.

ADDRESSES: Materials referred to in this document are available for inspection or copying at the First Coast Guard District, Bridge Branch Office, 408 Atlantic Avenue, Boston, Massachusetts 02110, between 7 a.m. and 3 p.m., Monday through Friday, except Federal holidays. The telephone number is (617) 223-8364. The First Coast Guard District Bridge Branch Office maintains the public docket for this temporary deviation.

FOR FURTHER INFORMATION CONTACT: Joe Arca, Project Officer, First Coast Guard District, at (212) 668-7165.

SUPPLEMENTARY INFORMATION: The NJTRO Bridge at mile 8.4, across Oceanport Creek has a vertical clearance in the closed position of 4 feet at mean high water and 6 feet at mean low water. The existing drawbridge operation regulations are listed at 33 CFR 117.736.

The owner of the bridge, New Jersey Transit Rail Operations (NJTRO), requested a temporary deviation from the drawbridge operating regulations to facilitate scheduled mechanical bridge repairs to be implemented during two weekend closure periods with a third weekend to be used as a rain date.

In order to perform the above repairs the bridge must remain in the closed position. Vessels that can pass under the bridge without a bridge opening may do so at all times.

This temporary deviation from the drawbridge operation regulations allows the NJTRO Bridge to remain in the closed position for two weekend closures as follows:

From 6 a.m. on Saturday, March 25, 2006 through 6 p.m. on Sunday, March 26, 2006, and from 6 a.m. on Saturday, April 8, 2006 through 6 p.m. on Sunday, April 9, 2006.

In the event inclement weather requires the cancellation of either of the two weekend closures listed above, the bridge may remain closed on an alternate weekend from 6 a.m. on Saturday, April 22, 2006 through 6 p.m. on Sunday, April 23, 2006.

In accordance with 33 CFR 117.35(c), this work will be performed with all due speed in order to return the bridge to normal operation as soon as possible. This deviation from the operating regulations is authorized under 33 CFR 117.35.

Dated: March 2, 2006.
Gary Kassof,
Bridge Program Manager, First Coast Guard District.

[FR Doc. 06-2256 Filed 3-8-06; 8:45 am]

BILLING CODE 4910-15-P